NUCLEAR REGULATORY COMMISSION

[Docket Nos. 50-313 and 50-368]

Entergy Operations, Inc.; Correction

AGENCY: Nuclear Regulatory Commission.

ACTION: Notice of issuance; correction.

SUMMARY: This document corrects a notice appearing in the Federal Register on August 19, 2003 (68 FR 49824), that was incorrectly placed in the section titled Notice of Issuance of Amendments to Facility Operating Licenses and Final Determination of No Significant Hazards Consideration and Opportunity for a Hearing [Exigent Public Announcement or Emergency Circumstances]. While the Notice of Consideration of Issuance, published July 9, 2003 (68 FR 41020), was Exigent, it was not made public via Public Announcement or under Emergency Circumstances, and shoud, therefore, have been placed in the section titled Notice of Issuance of Amendments to Facility Operating Licenses.

FOR FURTHER INFORMATION CONTACT: Thomas W. Alexion, Office of Nuclear Reactor Regulation, U.S. Nuclear Regulatory Commission, Washington, DC 20555-0001; telephone (301) 415-1326, e-mail: twa@nrc.gov.

Dated in Rockville, Maryland, this 4th day of September 2003.
For the Nuclear Regulatory Commission.
Thomas W. Alexion,
Project Manager, Section 1, Project Directorate IV, Division of Licensing Project Management, Office of Nuclear Reactor Regulation.

[FR Doc. 03-23150 Filed 9-10-03; 8:45 am]

BILLING CODE 7590-01-P